FEDERAL COMMUNICATIONS COMMISSION

47 CFR Part 73

[MB Docket Nos. 07-294, 06-121, 02-277, 04-228; MM Docket Nos. 01-235, 01-317, 00-244; FCC 09-92]

Promoting Diversification of Ownership in Broadcast Services

AGENCY: Federal Communications Commission.

ACTION: Final rule; correction.

SUMMARY: The Federal Communications Commission is correcting a document that appeared in the Federal Register at 74 FR 56135, October 30, 2009. The date's section contained an incorrect Federal Register citation and date which should reflect the correct citation of a previously published document.

DATES: Effective October 30, 2009.

FOR FURTHER INFORMATION CONTACT: For additional information, please contact Cathy Williams, Cathy.Williams@fcc.gov or on (202) 418-2918.

SUPPLEMENTARY INFORMATION: In FR Doc. E9-26196 appearing on page 56135 in the Federal Register published on Friday, October 30, 2009, the following corrections are made:

On page 56135, in the second column, under the DATES section is corrected to read:

DATES: The amendments to 47 CFR 73.3615 and FCC Form 323, published on October 30, 2009, 74 FR 56131, are effective on October 30, 2009.

Federal Communications Commission.
William F. Caton,
Deputy Secretary, Office of the Secretary, Office of Managing Director.

[FR Doc. E9-26601 Filed 11-4-09; 8:45 am]

BILLING CODE 6712-01-S